DEPARTMENT OF COMMERCE

International Trade Administration

[A-570-051]

Certain Hardwood Plywood Products From the People's Republic of China: Partial Rescission of Antidumping Duty Administrative Review; 2017-2018

AGENCY: Enforcement and Compliance, International Trade Administration, Department of Commerce.

SUMMARY: The Department of Commerce (Commerce) is partially rescinding its administrative review of the antidumping duty order on certain hardwood plywood products (hardwood plywood) from the People's Republic of China (China) for the period June 23, 2017 through December 31, 2018.

DATES: Applicable November 15, 2019.

FOR FURTHER INFORMATION CONTACT: Nicolas Mayora or Kabir Archuletta, AD/CVD Operations, Office V, Enforcement and Compliance, International Trade Administration, Department of Commerce, 1401 Constitution Avenue NW, Washington, DC 20230; telephone: (202) 482-3053 or (202) 482-2593, respectively.

SUPPLEMENTARY INFORMATION:

Background

On February 8, 2019, Commerce published in the Federal Register a notice of opportunity to request an administrative review of the antidumping duty (AD) order on hardwood plywood from China for the period of review (POR) June 23, 2017, through December 31, 2018.¹ Pursuant to requests from interested parties, Commerce initiated an administrative review with respect to 58 companies in accordance with section 751(a) of the Tariff Act of 1930, as amended (the Act).² Subsequent to the initiation of the administrative review, several interested parties timely withdrew their request for 29 of these companies, as discussed below. No other party requested an administrative review of these companies.

¹ See Antidumping and Countervailing Duty Order, Finding, or Suspended Investigation; Opportunity to Request Administrative Reviews, 84 FR 2816 (February 8, 2019).

² See Initiation of Antidumping and Countervailing Duty Administrative Reviews, 84 FR 12200 (April 1, 2019).

Partial Rescission of Administrative Review

Pursuant to 19 CFR 351.213(d)(1), Commerce will rescind an administrative review, in whole or in part, if the party that requested the review withdraws its request within 90 days of the publication of the notice of initiation. The request for an administrative review of the following companies was withdrawn within 90 days of the date of publication of the Initiation Notice: Celtic Co., Ltd.; ³ Feixian Longteng Wood Co., Ltd.; ⁴ Golder International Trade Co., Ltd.; ⁵ Highland Industries-Hanlin.; ⁶ Huainan Mengping Import and Export Co., Ltd.; ⁷ Jiangsu Top Point International Co., Ltd.; ⁸ Jiaxing Gsun Imp. & Exp. Co., Ltd.; ⁹ Lianyungang Yuantai International Trade Co., Ltd. (Yuantai); ¹⁰ Linyi City Dongfang Jinxin Economic and Trade Co., Ltd. (a/k/a Linyi City Dongfang Jinxjin Economic and Trade Co., Ltd.; ¹¹ Linyi Hengsheng Wood Industry Co., Ltd.; ¹² Linyi Linhai Wood Co., Ltd.; ¹³ Linyi Mingzhu Wood Co., Ltd.; ¹⁴ Qingdao Good Faith Import and Export Co., Ltd.; ¹⁵ Shandong Dongfang Bayley Wood Co., Ltd.; ¹⁶ Shandong Jinluda International Trade Co., Ltd.; ¹⁷ Shandong Qishan International Trading Co., Ltd.; ¹⁸ Shandong Senmanqi Import & Export Co., Ltd., Ltd.; ¹⁹ Shandong Shengdi International Trading Co., Ltd.; ²⁰ Suining Pengxiang Wood Co., Ltd.; ²¹ Sumec International Technology Co., Ltd.; ²² Suzhou Fengshuwan Import and Export Trade Co., Ltd. a/k/a Suzhou Fengshuwan I&E Trade Co., Ltd.; ²³ Vietnam Finewood Company Limited.; ²⁴ Win Faith Trading Limited.; ²⁵ Xuzhou Andefu Wood Co., Ltd.; ²⁶ Xuzhou DNT Commercial Co., Ltd.; ²⁷ Xuzhou Longyuan Wood Industry Co., Ltd.; ²⁸ XuZhou PinLin International Trade Co., Ltd.; ²⁹ Xuzhou Shengping Imp and Exp Co., Ltd.; ³⁰ Yishui Zelin Wood Made Co., Ltd.³¹ All review requests were withdrawn for these 29 companies, as detailed above. As a result, pursuant to 19 CFR 351.213(d)(1), Commerce is rescinding the administrative review of the AD order on certain hardwood plywood products with respect to these 29 companies. The instant review will continue with respect to the remaining companies for which a review was initiated on.

³ See Shandong Dongfang Bayley Wood Co., Ltd (Bayley) et al. Letter, “Hardwood Plywood Products from the People's Republic of China: Withdrawal of Request for Administrative Review,” dated June 25, 2019 (Bayley Withdrawal Letter); see also Richmond International Forest Products LLC (RIFP) Letter, “Administrative Review of the Antidumping and Countervailing Duty Order on Plywood Products from the People's Republic of China,” dated June 21, 2019 (RIFP Withdrawal Letter); and Sierra Forest Products Inc. (SFP) Letter, “Administrative Review of the Antidumping and Countervailing Duty Order on Plywood Products from the People's Republic of China: Withdrawal of Request for Review,” dated June 21, 2019 (SFP Withdrawal Letter).

⁴ See Bayley Withdrawal Letter.

⁵ Id.

⁶ See Morgan Truck Body LLC (Morgan) Letter, “Certain Hardwood Plywood Products from China: Withdrawal of Request for Review,” dated June 26, 2019.

⁷ See Bayley Withdrawal Letter.

⁸ Id.

⁹ Id.

¹⁰ See SFP Withdrawal Letter; see also Yuantai's Letter, “Certain Hardwood Plywood Products from China: Withdrawal of Request for Administrative Review,” dated July 1, 2019.

¹¹ See Canusa Wood Products Ltd. (Canusa) Letter, “Administrative Review of the Antidumping and Countervailing Duty Order on Plywood Products from the People's Republic of China: Withdrawal of Request for Review,” dated June 21, 2019 (Canusa Withdrawal Letter); see also Canusa's Letter, “Administrative Review of the Antidumping Duty Order on Plywood Products from the People's Republic of China: Clarification of Withdrawal of Request for Review,” dated November 6, 2019.

¹² See Bayley Withdrawal Letter.

¹³ See Bayley Withdrawal Letter; see also Taraca Pacific Inc. (Taraca) Letter, “Administrative Review of the Antidumping and Countervailing Duty Order on Plywood Products from the People's Republic of China: Withdrawal of Request for Review,” dated June 28, 2019 (Taraca Withdrawal Letter).

¹⁴ See Bayley Withdrawal Letter; see also RIFP Withdrawal Letter.

¹⁵ See Bayley Withdrawal Letter.

¹⁶ Id.

¹⁷ Id.

¹⁸ See Bayley Withdrawal Letter; see also Taraca Withdrawal Letter.

¹⁹ See Bayley Withdrawal Letter; see also Shandong Senmanqi Import & Export Co., Ltd Letter, “Hardwood Plywood Products from the People's Republic of China: Clarification of Senmanqi's Name,” dated November 7, 2019.

²⁰ Id.

²¹ Id.

²² See Bayley Withdrawal Letter; see also RIFP Withdrawal Letter.

²³ See Concannon Corp. (Concannon) Letter, “Administrative Review of the Antidumping and Countervailing Duty Order on Plywood Products from the People's Republic of China: Withdrawal of Request for Review,” dated June 21, 2019 (Concannon Withdrawal Letter).

²⁴ See Vietnam Finewood Company Limited Letter, “Hardwood Plywood Products from the Republic of China: Withdrawal of Request for Administrative Review,” dated June 28, 2019.

²⁵ See SFP withdrawal Letter.

²⁶ See Bayley Withdrawal Letter.

²⁷ Id.

²⁸ Id.

²⁹ See Canusa Withdrawal Letter.

³⁰ See Bayley Withdrawal Letter.

³¹ Id.

Assessment

Commerce will instruct U.S. Customs and Border Protection (CBP) to assess antidumping duties on all appropriate entries. For the companies for which this review is rescinded, antidumping duties shall be assessed at rates equal to the cash deposit of estimated antidumping duties required at the time of entry, or withdrawal from warehouse for consumption, in accordance with 19 CFR 351.212(c)(l)(i). Commerce intends to issue appropriate assessment instruction to CBP 15 days after publication of this notice in the Federal Register, if appropriate.

Notification to Importers

This notice serves as a final reminder to importers of their responsibility under 19 CFR 351.402(f)(2) to file a certificate regarding the reimbursement of any antidumping or countervailing duties prior to liquidation of the relevant entries during this review period. Failure to comply with this requirement could result in the presumption that reimbursement of any antidumping or countervailing duties occurred and the subsequent assessment of doubled antidumping duties.

Notification Regarding Administrative Protective Orders

This notice also serves as a final reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction. This notice is issued and published in accordance with sections 751(a)(1) and 777(i)(1) of the Tariff Act of 1930, as amended, and 19 CFR 351.213(d)(4).

Dated: November 8, 2019.
James Maeder,
Deputy Assistant Secretary for Antidumping and Countervailing Duty Operations.

[FR Doc. 2019-24827 Filed 11-14-19; 8:45 am]

BILLING CODE 3510-DS-P